DEPARTMENT OF HEALTH AND HUMAN SERVICES

Administration for Community Living

Agency Information Collection Activities: Proposed Collection; Public Comment Request; of the Annual SMP/SHIP/MIPPA National Training Conference Survey OMB Control Number 0985-0068

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This IC Extension solicits comments on the information collection requirements relating to the Annual SMP/SHIP/MIPPA National Training Conference Survey.

DATES: Comments on the collection of information must be submitted electronically by 11:59 p.m. (EST) or postmarked by July 11, 2023.

ADDRESSES: Submit electronic comments on the collection of information to: Katherine.Glendening@acl.hhs.gov. Submit written comments on the collection of information to Administration for Community Living, 330 C Street SW, Washington, DC 20201, Attention: Katherine Glendening.

FOR FURTHER INFORMATION CONTACT: Katherine Glendening, Administration for Community Living, Washington, DC 20201, (202) 795-7350 or Katherine.Glendening@acl.hhs.gov.

SUPPLEMENTARY INFORMATION: Under the PRA (44 U.S.C. 3501-3520), Federal agencies must obtain approval from the Office of Management and Budget (OMB) for each collection of information they conduct or sponsor. “Collection of information” is defined as and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including using automated collection techniques when appropriate, and other forms of information technology.

The Office of Healthcare Information and Counseling (OHIC) hosts an annual national training conference for the federally funded programs that it administers. The audience for this training conference includes attendees from State Health Insurance Assistance Program (SHIP), Senior Medicare Patrol (SMP) programs and Medicare Improvements for Patients and Providers Act (MIPPA) programs, which are three nationally recognized programs that provide Medicare information and counseling to Medicare beneficiaries and help, fight Medicare fraud through prevention and education. Grantee leadership is required to attend this training annually to ensure they receive critical information and technical assistance needed to help them successfully meet the requirements of their grant awards. Grantees are encouraged to bring up to three (3) people from each program. Programs operate in each of the 50 states, the District of Columbia, Guam, Puerto Rico, and the U.S. Virgin Islands.

Section 4360(f) of OBRA 1990 created the State Health Insurance Assistance Program (SHIP) and requires the Secretary to support a national network of grantees to provide outreach and assistance to Medicare beneficiaries. In addition, under Public Law 104-208, the Omnibus Consolidated Appropriations Act of 1997, Congress established the Senior Medicare Patrol Projects to further curb losses to the Medicare program. The Senate Committee noted that retired professionals, with appropriate training, could serve as educators and resources to assist Medicare beneficiaries and others to detect and report error, fraud, and abuse.

This tool provides ACL an opportunity to assess the success and impact of the training provided to the SHIP and SMP grantees by ACL along with determining the future training needs of the program grantees. Section 301 of the Public Health Service Act (42 U.S.C. 241) is the authorizing law for data collections within the Department of Health and Human Services (HHS). Specifically, agencies within HHS should “collect and make available through publications and other appropriate means . . . research and other activities.”

The March 3, 1998, White House Memorandum, “Conducting Conversations with America to Further Improve Customer Service,” directs agencies “to track customer service measurements, then take necessary actions to change or improve how the agency operates, as appropriate. Integrate what your agency learns from its customers with your agency's strategic plans, operating plans, and performance measures required by the Government Performance and Results Act of 1993, reporting on financial and program performance under the Chief Financial Officers Act of 1990, and the Government Management Reform Act of 1994.” The information collected in this survey is necessary to ensure that ACL is meeting the technical assistance needs of the attendees and to capture valuable feedback to be used for future training meetings. By gathering feedback on the quality of the training and content provided, we can ensure attendee satisfaction and gather information for future planning. ACL administers a contract to develop and provide the training conference evaluation tool for ACL's approval. The proposed data collection tools may be found on the ACL website for review at: https://www.acl.gov/about-acl/public-input.

Estimated Program Burden: ACL estimates the burden of this collection of information as follows:

ACL will collect data once following the Annual SMP/SHIP/MIPPA National Training Conference. This evaluation will be sent to all event attendees, which is estimated to include maximum 486 participants, each survey is estimated at .25 hours to complete. This time estimate is based on research performed by ACL with the existing survey instrument and in consideration of previous survey content and length. The target number 486 is a result of 54 states/territories, each sending up to 9 conference participants who may be eligible to complete a survey (54 * 9 = 486). Factoring in an additional 40 non-grantee, non-federal partner event participants (486 + 40 = 526). 526 respondents taking 15 minutes to complete for a total of 131.5 annual burden hours.

Total Estimated Annualized Burden Hours
Number of respondents | Responses per respondent | Average burden hours per response (minutes) | Total burden hours
526 | 1 | 15 | 131.5

Dated: May 8, 2023.
Alison Barkoff,
Acting Administrator and Assistant Secretary for Aging.

[FR Doc. 2023-10120 Filed 5-11-23; 8:45 am]

BILLING CODE 4154-01-P